SECURITIES AND EXCHANGE COMMISSION

Issuer Delisting; Notice of Application of Newtek Business Services, Inc., To Withdraw Its Common Stock $.02 Par Value, From Listing and Registration on the American Stock Exchange LLC File No. 1-16123

December 31, 2003.

Newtek Business Services, Inc., a New York corporation (“Issuer”), has filed an application with the Securities and Exchange Commission (“Commission”), pursuant to Section 12(d) of the Securities Exchange Act of 1934 (“Act”) ¹ and Rule 12d2-2(d) thereunder,² to withdraw its Common Stock, $.02 par value (“Security”), from listing and registration on the American Stock Exchange LLC (“Amex” or “Exchange”).

¹ 15 U.S.C. 78l(d).

² 17 CFR 240.12d2-2(d).

The Issuer stated in its application that it has met the requirements of Amex Rule 18 by complying with all applicable laws in the State of New York, in which it is incorporated, and with the Amex's rules governing an issuer's voluntary withdrawal of a security from listing and registration.

The Board of Directors (“Board”) of the Issuer unanimously approved a resolution on December 19, 2003 to withdraw the Issuer's Security from listing on the Amex. The Board states that the following reasons factored into its decision to withdraw the Security from listing and registration on the Amex and the apply to list its Security on the Nasdaq National Market System (“NMS”): (i) Listing on the NMS is likely to increase the visibility of the Issuer among investors, particularly institutional investors, and (ii) listing on the NMS will assist in the Issuer's efforts to attract additional analyst coverage for its Security and ultimately add to the value of the Issuer's Security by increasing the liquidity of the investment.

The Issuer's application relates solely to the withdrawal of the Securities from listing on the Amex and from registration under Section 12(b) of the Act ³ and shall not affect its obligation to be registered under section 12(g) of the Act.⁴

³ 15 U.S.C. 78l(b).

⁴ 15 U.S.C. 78l(g).

Any interested person may, on or before January 28, 2004, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 2003.0-3(a)(1).
Jonathan G. Katz,
Secretary.

[FR Doc. 04-263 Filed 1-6-04; 8:45 am]

BILLING CODE 8010-01-M